DEPARTMENT OF TRANSPORTATION

Federal Railroad Administration

[Docket No. FRA-2010-0036]

Southeastern Pennsylvania Transportation Authority's Request To Amend Its Positive Train Control Implementation Plan, Including a Request for Approval of a Discontinuance or Modification of a Railroad Signal System

AGENCY: Federal Railroad Administration (FRA), Department of Transportation (DOT).

ACTION: Notice of availability and request for comments.

SUMMARY: This document provides the public with notice that, on July 27, 2022, and supplemented on August 4, 2022, the Southeastern Pennsylvania Transportation Authority (SEPTA) submitted a request for amendment (RFA) to its FRA-approved Positive Train Control Implementation Plan (PTCIP). The RFA includes a petition seeking approval to discontinue or modify a signal system. On August 17, 2022, FRA approved, in part, SEPTA's RFA to its PTCIP; however, FRA did not provide a decision on SEPTA's request to discontinue or modify a portion of its signal system at that time, as FRA must seek public comment on that aspect before issuing a decision.

DATES: FRA will consider comments received by November 7, 2022. FRA may consider comments received after that date to the extent practicable and without delaying implementation of valuable or necessary modifications to a signal system.

ADDRESSES:

Comments: Comments may be submitted by going to https://www.regulations.gov and following the online instructions for submitting comments.

Instructions: All submissions must include the agency name and the applicable docket number. The relevant PTC docket number for the host railroad that filed this RFA to its PTCIP is Docket No. FRA-2010-0036. For convenience, all active PTC dockets are hyperlinked on FRA's website at https://railroads.dot.gov/train-control/ptc/ptc-annual-and-quarterly-reports. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: In general, title 49 United States Code (U.S.C.) section 20157(h) requires FRA to certify that a host railroad's PTC system complies with title 49 Code of Federal Regulations (CFR) part 236, subpart I, before the technology may be operated in revenue service. Before making certain changes to an FRA-certified PTC system or the associated FRA-approved PTCIP, a host railroad must submit, and obtain FRA's approval of, an RFA to its PTCIP under 49 CFR 236.1021.

Under 49 CFR 236.1021(e), FRA's regulations provide that FRA will publish a notice in the Federal Register and invite public comment in accordance with 49 CFR part 211, if an RFA includes a request for approval of a discontinuance or material modification of a signal and train control system. Accordingly, this notice informs the public that, on July 27, 2022, 2022, SEPTA submitted an RFA to its PTCIP for its Advanced Civil Speed Enforcement System II (ACSES II) and that RFA is available in Docket No. FRA-2010-0036.

Specifically, under 49 CFR 236.1021(c), SEPTA requested approval to discontinue the MB and 6N signals at Control Point (CP) South Elwyn located at milepost (MP) 15.9 and the 1660 automatic signal located at MP 16.6 in approach to CP South Elwyn on its West Chester Line. SEPTA also proposed to make the method of operation between CP Elwyn (MP 15.3) and CP Wawa (MP 18.07) by signal indication of a traffic control system, without fixed automatic block signals, supplemented by a cab signal and ACSES II PTC system. SEPTA states that the signals at CP South Elwyn are no longer needed as new signals have been installed at CP Lenni North, located at MP 17.59, which will now control the direction of the signal system traffic. In addition, with the extension of passenger service to Wawa station, SEPTA will no longer have an operational need to turn or hold trains at CP South Elwyn. With the installation of a cab signal and ACSES II PTC system between CP Elwyn and CP Wawa, SEPTA's 1660 automatic signal is no longer required.

As this RFA involves a request for FRA's approval to discontinue or modify a signal system, FRA is publishing this notice and inviting public comment on the railroad's request to discontinue or modify a signal system.

Interested parties are invited to comment on SEPTA's RFA to its PTCIP by submitting written comments or data. During FRA's review of this railroad's RFA, FRA will consider any comments or data submitted within the timeline specified in this notice and to the extent practicable, without delaying implementation of valuable or necessary modifications to a PTC system. See 49 CFR 236.1021; see also 49 CFR 236.1011(e). Under 49 CFR 236.1021, FRA maintains the authority to approve, approve with conditions, or deny a railroad's RFA to its PTCIP at FRA's sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2022-20509 Filed 9-21-22; 8:45 am]

BILLING CODE 4910-06-P